DEPARTMENT OF ENERGY

Federal Energy Regulatory Commission

[Docket No. AD07-15-000]

State of the Natural Gas Industry Conference; Supplemental Notice of Commission Conference

October 29, 2007.

As announced in an October 5, 2007 Notice of Commission Conference, the Federal Energy Regulatory Commission will hold a conference on November 6, 2007, from 9:30 a.m. to 1 p.m. (EST) (change in the closing time from 12:30 p.m. listed in the previous notice), in the Commission Meeting Room on the second floor of the offices of the Federal Energy Regulatory Commission, 888 First Street, NE., Washington, DC.

All interested persons may attend; there is no registration and no fee.

The conference is designed to discuss current issues affecting the natural gas industry including: supply, demand, and their impact on the market; the role of liquefied natural gas in U.S. gas supply; and infrastructure needs and construction impediments. Attached is the agenda for the conference.

As mentioned in the earlier notice, transcripts of the conference will be immediately available from Ace Reporting Company (202-347-3700 or 1-800-336-6646) for a fee. Additionally, a free Web cast of the meeting is available through http://www.ferc.gov. Anyone with Internet access who desires to listen to this event can do so by navigating to http://www.ferc.gov's Calendar of Events and locating this event in the Calendar. The event will contain a link to its Web cast. The Capitol Connection provides technical support for the Web casts and offers the option of listening to the meeting via phone bridge for a fee. If you have any questions, visit http://www.CapitolConnection.org or contact Danelle Perkowski or David Reininger at 703-993-3100.

FERC conferences are accessible under section 508 of the Rehabilitation Act of 1973. For accessibility accommodations please send an e-mail to accessibility@ferc.gov or call toll free 866-208-3372 (voice) or 202-208-1659 (TTY), or send a fax to 202-208-2106 with the required accommodations.

For more information about the conference, please contact John Schnagl at (202) 502-8756 (john.schnagl@ferc.gov).

Kimberly D. Bose,
Secretary.

Attachment

State of the Natural Gas Industry Conference

November 6, 2007.

Agenda

9:30 a.m. Opening Remarks.

Chairman Joseph T. Kelliher, Federal Energy Regulatory Commission Commissioners.

9:50 a.m. Natural Gas Markets.

• What is the changing nature of U.S. natural gas markets?

• Will newer sources of natural gas (shale, coal bed methane, deepwater Gulf of Mexico) offset declines in traditional sources of natural gas?

• What changes should we expect in net import/exports to and from Canada and Mexico?

• How could ethanol production, carbon constrained electric generation, or other unforeseen demands affect the U.S. supply/demand balance?

Panelists:

Kevin Petak, Vice President, ICF International.

Porter Bennett, President and CEO, Bentek Energy, LLC.

Stephen Harvey, Director, Energy Market Oversight, Office of Enforcement, FERC.

10:50 a.m. LNG's Role in U.S. Gas Supply.

• How does the U.S. currently obtain the LNG it needs?

• Is there a need to change LNG procurement in the U.S.? If so,

• What is needed to encourage contractual arrangements for LNG supply that will meet expected U.S. demand for natural gas?

• Is imported LNG a dependable supply source?

• How is the U.S.'s role in the world LNG market changing?

Panelists:

Betsy Spomer, Senior Vice President Western Hemisphere LNG, BG Group, plc.

Richard Grant, International Chief Executive, Suez Energy International.

Zach Allen, Managing Director, Pan EurAsian Enterprises, Inc.

Patricia Outtrim, Vice President, Cheniere Energy, Inc.

11:50 a.m. Natural Gas Infrastructure.

• What gas infrastructure needs to be built to satisfy future demand?

• What difficulties are currently being encountered in planning and building gas infrastructure? (e.g., cost and availability of materials, regulatory impediments—federal and non-federal)

• What financial/capital impediments exist that will impede the construction of needed gas infrastructure?

• Is there a skilled labor shortage? If so, is it a temporary situation and what is the extent (national, regional, global)?

Panelists:

Sam Brothwell, Managing Director, Equity Research, Wachovia Securities.

Scott Parker, President, Natural Gas Pipelines, Kinder Morgan.

Martha Wyrsch, President and CEO, Spectra Energy Transmission.

Brad Kamph, President, Interliance Consulting, Inc.

12:50 p.m. Closing Remarks.

1 p.m. Adjourn.

[FR Doc. E7-21661 Filed 11-2-07; 8:45 am]

BILLING CODE 6717-01-P